DEPARTMENT OF VETERANS AFFAIRS

[OMB Control No. 2900-0662]

Agency Information Collection (Civil Rights Discrimination Complaint) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 24, 2008.

ADDRESSES: Submit written comments on the collection of information through www.Regulations.gov or to VA's OMB Desk Officer, OMB Human Resources and Housing Branch, New Executive Office Building, Room 10235, Washington, DC 20503 (202) 395-7316. Please refer to “OMB Control No. 2900-0662” in any correspondence.

FOR FURTHER INFORMATION CONTACT: Denise McLamb, Records Management Service (005R1B), Department of Veterans Affairs, 810 Vermont Avenue, NW., Washington, DC 20420, (202) 273-0443, fax (202) 461-7485 or e-mail denise.mclamb@mail.va.gov. Please refer to “OMB Control No. 2900-0662.”

SUPPLEMENTARY INFORMATION: Title: Civil Rights Discrimination Complaint, VA Form 10-0381.

OMB Control Number: 2900-0662.

Type of Review: Extension of a currently approved collection.

Abstract: Veterans and other VHA customers who believe that their civil rights were violated by agency employees while receiving medical care or services in VA medical centers, or institutions such as state homes receiving federal financial assistance from VA, complete VA Form 10-0381 to file a formal complaint of the alleged discrimination.

An agency may not conduct or sponsor, and a person is not required to respond to a collection of information unless it displays a currently valid OMB control number. The Federal Register Notice with a 60-day comment period soliciting comments on this collection of information was published on January 8, 2008 at pages 1399-1400.

Affected Public: Individuals or households.

Estimated Total Annual Burden: 46 hours.

Estimated Average Burden Per Respondent: 15 minutes.

Frequency of Response: On occasion.

Estimated Number of Respondents: 183.

Dated: March 13, 2008.
By direction of the Secretary.
Denise McLamb,
Program Analyst, Records Management Service.

[FR Doc. E8-6075 Filed 3-24-08; 8:45 am]

BILLING CODE 8320-01-P